DEPARTMENT OF HEALTH AND HUMAN SERVICES

Office of the Secretary

Office of Budget, Technology and Finance, Office of Assistant Secretary for Administration and Management; Statement of Organization, Functions, and Delegations of Authority

Part A, Office of the Secretary, Statement of Organization, Functions and Delegations of Authority for the Department of Health and Human Services (HHS) is being amended as follows: Chapter AM, “HHS Management and Budget Office” as last amended at 60 FR 52403-05 (10/6/95); 63 FR 38836-7 (7/20/98); 61 FR 43363-65 (8/22/96); 63 FR 9555-6 (2/25/98); and 60 FR 52403-5 (10/6/95). This reorganization will do the following: Abolish the HHS Management and Budget Office (MB), retitle it as the Office of Budget, Technology and Finance (OBTF), headed by an Assistant Secretary, and transfer its functions between OBTF and a newly established Chapter AJ to be titled, the “Office of the Assistant Secretary for Administration and Management (OASAM),” which will be headed by an Assistant Secretary. The Assistant Secretary for Administration and Management (ASAM) will share responsibility with the Assistant Secretary for Budget, Technology and Finance (ASBTF) for ensuring that HHS meets the goals set forth in the President's Management Agenda, and the OASAM Assistant Secretary will serve as the OPDIV Head for the Secretary. The OBTF will focus on the financial and budgetary concerns for the Department, as well as the investments the Department is making in 3-government and technology. The OBTF Assistant Secretary will serve as the Department's Chief Financial Officer and manage the HHS Chief Information Officer functions. The changes are as follows:

1. Under Part A, “Office of the Secretary,” make the following changes to Chapter AM:

A. Delete all references to the “HHS Management and Budget Office,” and the Assistant Secretary for Management and Budget (ASMB) in their entireties; and retitle the “HHS Management and Budget Office,” as the Office of Budget, Technology and Finance (OBTF) and the ASMB as the Assistant Secretary for Budget, Technology and Finance (ASBTF).

B. Delete Chapter AM, in its entirety and replace with the following:

Office of Budget, Technology and Finance (AM)

Section AM.00 Mission: The mission of the Office of Budget, Technology and Finance (OBTF) is to provide advice and guidance to the Secretary on budget, financial management, and information technology, and to provide for the direction and coordination of these activities throughout the Department.

Section AM.10 Organization: The Office of Budget, Technology, and Finance is headed by the Assistant Secretary for Budget, Technology and Finance (ASBTF). The Assistant Secretary for Budget, Technology, and Finance is the Departmental Chief Financial Officer (CFO), and reports to the Secretary. The office consists of the following components:

• Immediate Office of the ASBTF (AM)

• Office of Budget (AML)

• Office of Information Resources Management (AMM)

• Office of Finance (AMS)

Section AM.20. Functions: 1. Immediate Office of the Assistant Secretary for Budget, Technology, and Finance/Chief Financial Officer (AM). Provides executive direction to OBTF components. The ASBTF is the principal adviser to the Secretary on all aspects of budgetary and financial management and information technology. By delegation from the Secretary, the ASBTF/CFO exercises full Department-wide authority of the Secretary in the assigned areas of responsibility to include all responsibilities provided by the Chief Financial Officers Act of 1990. This includes the approval of the job descriptions and skill requirements, and the selection of OPDIV CFOs as well as participation with the OPDIV Head in the annual performance plan/evaluation of the OPDIV CFO. In addition, the ASBTF/CFO provides Department-wide policy guidance on the qualifications, recruitment, performance, training, and retention of all financial management personnel. The ASBTF manages the Chief Information Officer (CIO) and all functional responsibilities included in the Clinger-Cohen Act.

2. Office of Budget (AML): The Office of Budget: (1) Advises and supports the Secretary and the Assistant Secretary for Budget, Technology and Finance/CFO and oversees the preparation of the Departmental budget estimates and forecasts resources required to support programs and activities of the Department; (2) analyzes budgetary and financial management implications of new or proposed legislation, programs or activities; (3) appraises program activities and operations in terms of policies, goals and objectives of the Department; (4) operates HHS' integrated funding system; (5) recommends and administers policies and procedures for allocation and control of employment ceilings; (6) establishes and monitors audit management policy for the Department and prepares reports to Congress on audit resolution management; (7) develops and executes Department-wide procedures relating to implementation and management of Government Performance and Results Act (GPRA); (8) responsible for the Office of the Secretary activities under the Paperwork Reduction Act; (9); serves as the focal point for OS budget operations, providing assistance for the development of budget policy and management of positions and financial resources for the OS; (10) manages audit follow-up and resolves issues relating to audit resolution management in the OS; (11) with particular reference to the Office of the Secretary (OS), is responsible for the overall formulation and execution of the OS budget; (12) serves as the focal point for OS budget operations, providing assistance for the development of budget policy and management of positions and financial resources for the OS; and review proposed recommendation on draft regulations, proposed legislation, reorganization, and delegations of authority proposal.

3. Office of Information and Resources Management (OIRM): The Deputy Assistant Secretary for Information Resources Management (DASIRM), who is also the Deputy CIO, heads the Office of Information Resources Management (OIRM). OIRM provides the Secretary and the Assistant Secretary for Budget, Technology, and Finance (ASBTF) and the Chief Information Officer (CIO) with strategic planning, information resources management and technology policy, architecture, investment review, and Office of the Secretary (OS) computer operations management support. More specifically, OIRM, in collaboration with the HHS agencies and Staff Divisions, (1) develops and updates the Information Technology Five Year Strategic Plan; (2) develops and coordinates information resources management policies applicable across the Department and the Office of the Secretary, including the creation, handling, storage, dissemination, and disposition of information; (3) leads the development and implementation of an enterprise information infrastructure across the Department (including a Departmental information technology architecture and information technology-based services for the Office of the Secretary's clients and employees); (4) manages risks associated with major information systems and information technology; (5) evaluates major investments in information technology based on return on investment and is responsible for their subsequent periodic review; (6) guides and oversees the development of information systems and communications networks; (7) leads e-government activities to achieve strategic improvements in service in the following areas: Government to citizen, Government to business, Government to Government, and internal efficiency and effectiveness; and (8) provides data processing and communications equipment for the Office of the Secretary and implements and maintains standards office automation applications running on the OS network.

4. Office of Finance (AMS): The Office of Finance is headed by the Deputy Assistant Secretary for Finance and is also the Deputy Chief Financial Officer: (1) Advises and supports the Secretary and the Assistant Secretary for Budget, Technology, and Finance/CFO on all aspects of financial activities across the Department; (2) oversees, monitors and evaluates the design, development, operation, and enhancement of Department-wide and component accounting systems; (3) coordinates CFO activities and reports throughout HHS including the preparation of audited financial statements and the preparation of the annual CFO report for submission to the ASBTF/CFO; (4) in coordination with other ASBTF components, participates in the clearance/approval process for program information systems that provide financial and/or program performance data which are used in financial statements; (5) provides advice to the ASBTF/CFO on approval of the job descriptions and skills requirements for OPDIV CFOs and on the approval of the selection of OPDIV CFOs; (6) provides advice to the ASBTF/CFO who participates with the OPDIV Head in the annual performance plan/evaluation of the OPDIV CFO; (7) provides advice to the ASBTF/CFO on the qualifications, recruitment, performance, training and retention of all financial management personnel; (8) serves as the Departmental liaison with GAO, OMB, Treasury, and other Federal agencies on financial matters; (9) maintains Departmental finance and accounting standards; (10) resolve monetary findings involving management systems; (11) directs regional review and negotiation of cost allocation plans and indirect cost rates; (12) in coordination with the Office of Budget, recommends and implements Departmental Budget execution policies and procedures, and serves as the focal point dealing with OMB on these matters; (13) manages the day-to-day finance and accounting activities of the Office of the Secretary and other Departmental components as determined by the ASBTF/CFO.

C. Delete Chapter AML, “Office of Budget,” in its entirety and replace with the following:

Section AML.00 Mission: The Office of Budget provides advice and support to the Secretary and the Assistant Secretary for Budget, Technology, and Finance on matters pertaining to: formulation of the HHS and President's budgets, presentation of budgets and reconciliation legislation to OMB and the Congress, and resolution of issues arising from the execution of final appropriations.

Section AML.10 Organization: The Office of Budget is headed by the Deputy Assistant Secretary for Budget who reports to the Assistant Secretary Budget, Technology and Finance/Chief Financial Officer and includes the following:

• Division of Discretionary Programs (AML1)

• Division of Health Benefits and Income Support (AML3)

• Division of Budget Policy and Management (AML4)

• Division of Program Integrity and Accountability (AML2)

Section AML.20 Functions: 1. Division of Discretionary Programs: The Division—a. Provides analytical services and assistance to the Secretary, the Assistant Secretary for Budget, Technology, and Finance, and Department OPDIV heads in their budgetary management of the Department's principal discretionary programs including science and health services programs administered by the Public Health Service components; and social service programs of the Administration for Children and Families and the Administration on Aging.

b. Reviews, budgets, and related requests, for resources, and analyzes plans and proposals for new or alternative legislation.

c. Analyzes proposed regulations, reorganizations, or program initiatives to determine their policy, resource and management implications.

d. Proposes recommendations on draft regulations, proposed legislation and reorganization proposals.

e. Proposes budget options and policy initiatives as necessary to achieve program objectives established by the Secretary.

f. Assists in the development of strategies for the presentation of the budget to the Office of Management and Budget and the Congress and develops materials for key Departmental officials who testify at hearings before these bodies.

g. Provides guidances to OPDIVs and STAFFDIVs in the formulation of their budgets.

h. Conducts special reviews and analyses to examine assigned OPDIV and STAFFDIV program operations and management effectiveness.

2. Division of Health Benefits and Income Support: The Division—a. Provides analytical services and assistance to the Secretary, the Assistant Secretary for Budget, Technology, and Finance, and the Department OPDIV heads in the budgetary management of the Department's principal entitlement programs including Medicare, Medicaid, Family Support Payments and other entitlements in support of children and families.

b. Reviews budget and related requests for resources; analyzes plans and proposals for new legislation, regulations, or program initiatives to determine their resource, policy, and management implications; proposes recommendations for the Office of Budget on budget requests, draft regulations, proposed legislation, and reorganization proposals.

c. Assists the Secretary, the Assistant Secretary of Budget, Technology, and Finance and the OPDIV heads in evaluating programs and budgetary proposals by developing reliable cost projections for legislative and planning proposals, and ensuring that proposals are consistent with approved plans and policies.

d. Coordinates the preparation of budget estimates and forecasts of resources required to support the programs and operations of the Department.

e. Reviews reprogramming requests and recommends appropriate action to the Office of Budget.

f. Provides guidance in budget formulation for the appropriate OPDIV.

g. Conducts special management reviews and analyses, and develops management options to ensure efficient and effective program operations and to encourage management improvements.

h. Proposes budget options and policy initiatives as necessary to achieve program objectives established by the Secretary.

i. Assists in the development of strategies for presentation of the budget to the Office of Management and Budget and the Congress and develops materials for key Department officials who testify at hearings before these bodies.

3. Division of Budget Policy, Execution and Management: The Division—a. Directs the formulation and presentation of the HHS budget by developing and promulgating to the OPDIVs and others the policies, procedures, guidance, and schedules for preparing budget submissions.

b. Coordinates the presentation of the Department's budget to Congress including preparation and submission of justifications, reports, significant items, and crosscutting materials; preparation of the Secretary's testimony before the Appropriations Committees; and coordination of transcripts, questions for the record, and other hearing materials.

c. Provides advice and analysis to support Department-wide budget decision-making.

d. Maintains active communication with Department budget officers with regard to external budget events.

e. Manages a computerized budget information system reflecting data on HHS-wide basis and coordinates OPDIV input into this system.

f. Provides direct staff support to the Secretary in preparation for appropriation hearings and other budget related presentations and briefings.

g. Actively communicates with the Budget and Appropriations Committees in the Congress and provides intelligence and analyses of budget decisions to senior HHS staff and the Operating Divisions.

h. Prepares guidelines for determining funding levels under continuing resolutions.

i. Coordinates preparation of guidelines governing reprogrammings, transfers between accounts, and other crosscutting funding methods; provides recommendations and staff support in processing crosscutting funding proposals.

j. Analyzes and prepares reports on HHS performance in achieving streamlining and FTE reduction goals; provides expert advice on Departmentwide staffing policy.

k. Provides leadership and direction in the Department-wide review, analysis and appraisal of financial elements of program execution and the development and execution of policies related to efficient allocation, expenditure and control of funds.

l. Coordinates and tracks outlay projections: (1) To assist OMB in the continuing effort to monitor spending and to thereby improve the management of the Government's overall cash and debt operations; and (2) in support of formulation of the budget, including the maintenance of HHS ceiling controls and the development of outlay estimates shown in the President's Budget for controllable programs.

m. Promulgates Departmental spending policies, especially in the event of Continuing Resolutions and possible suspension of operations due to the failure of the Congress to enact appropriations on time and works with agency budget officers and the Office of Budget in formulating agency funding plans.

n. Maintains a system of Department-wide budget execution, including the management and control of the apportionment of funds in accordance with the requirements of the Anti-Deficiency Act and OMB regulations; and requests and monitors the receipt of Treasury warrants.

o. Serves as principal staff advisor to the OBTF on all matters involving budget execution.

p. Acts as liaison with the Office of Management and Budget, the Treasury Department, the Congressional Budget Office, and other agencies on matters involving budget execution.

q. Responsible for the development and maintenance of a system of financial information which involves the collection, organization, and maintenance of financial data in electronic form as well as the development of reporting mechanisms for making the financial information useful and available for decision making.

4. Division of Program Integrity and Accountability: The Division—a. Reviews and analyzes the budgets of the Office of Inspector General (OIG) and Office for Civil Rights (OCR). Prepares special analyses of OIG and OCR budgets for the purpose of evaluating capacity and determining if alternative approaches are feasible. These analyses would usually be for the use of the Deputy Assistant for Secretary Budget, the Assistant Secretary for Budget, Technology and Finance, and the Secretary. Monitors Congressional appropriations hearings in which the OIG and OCR are participants.

b. Establishes Department policy in the management of Inspector General Reports and audits.

c. Manages, in accordance with the Paperwork Reduction Act of 1980, as amended, the OS activities related to the review and approval of all public use reports and record-keeping requirements which impose a paperwork burden on the public. Develops policies for and manages the OS Information Collection Budget and the Information Collection Budget process. Develops policies and procedures for the OS and carries out analytical and oversight activities related to the Department's paperwork burden reduction efforts.

d. Provides staff assistance to the Assistant Secretary for Budget, Technology and Finance and the HHS Operating Divisions in the implementation, management and analysis for: (1) Strategic planning and for the development and implementation of performance measures under the Government Performance and Results Act (GPRA); and (2) budget related performance planning and annual performance plans required under the Government Performance and Results Act (GPRA).

e. Represents the Department in government-wide activities to implement the development and implementation of performance measures under GPRA and budget-related GPRA performance planning policies, requirements and processes.

f. Provides special management review services for selected activities.

g. Provides staff assistance to the Secretary, the Assistant Secretary for Budget, Technology and Finance, the Service and Supply Funds (SSF) Board of Directors, OPDIV Budget Officers and STAFFDIV Heads in the budgetary and financial management of the Service and Supply Fund.

h. Provides for budget policy management and financial integrity of the SSF in the provision of Departmental common use administrative services.

i. Assists in the planning and preparation of the SSF budget for presentation to the SSF Board, the Office of Management and Budget, and Congress.

j. Prepares apportionment requests for the Services and Supply fund.

D. Make the following changes to Chapter AMM, “Office of Information and Resources Management,” delete Section AMM.00 Mission in its entirety and replace with the following:

Section AMM.00 Mission: Office of Information and Resources Management. The Office of Information Resources Management (OIRM) provides the Department and the Office of the Secretary with information resources management and technology policy, strategic planning, architecture, investment review, e-government guidance, and Office of the Secretary (OS) computer operations management support. The Office of Information Resources Management (OIRM) advises the Secretary and the Assistant Secretary for Budget, Technology, and Finance (ASBTF) and the Chief Information Officer (CIO) on information resources and information technologies to accomplish Department goals and program objectives. The Office represents the Department to central management agencies (e.g., the Office of Management and Budget, General Accounting Office); exercises delegated authorities and ensures adherence to any other applicable laws, Executive Orders, and oversight agency mandates; and promotes improved management of Departmental information resources and technology. Delegated authorities and applicable laws include the Information Technology Management Reform Act of 1996, the Paperwork Reduction Act of 1995, the Computer Matching and Privacy Act of 1988, the Computer Security Act of 1987, the National Archives and Records Administration Act of 1984, the Competition in Contracting Act of 1984, the Federal Records Act of 1950, OMB Circular A-130: Management of Federal Information Resources, the Government Information Security Reform Act, and the Government Printing and Binding Regulations issued by the Joint Committee on Printing.

E. Delete Chapter AMS. “Office of Finance,” in its entirety and replace with the following:

Section AMS.10 Mission: The Office of Finance is headed by the Deputy Assistant Secretary, Finance, who is also the Deputy Chief financial Officer and reports to the Assistant Secretary for Budget, Technology and Finance/Chief Financial Officer. The Office of Finance provides financial management advice and leadership to the Secretary and the Assistant Secretary for Budget, Technology and Finance, and the Operating Divisions CFOs.

Section AMS.20 Organization: The Office of Finance is headed by the Deputy Assistant Secretary for Finance who is also the Deputy Chief Financial Officer and reports to the Assistant Secretary for Budget, Technology and Finance. The Office includes the following:

• Immediate Office (AMS)

• Office of Financial Policy (AMS1)

• Program Management and Systems Policy Office (AMS4)

• Office of Audit Resolution and Cost Policy (AMS5)

Section AMS.20 Functions: Immediate Office (AMS) The Immediate Office is responsible for: (1) Standards for financial systems and financial reporting including audited financial statements in conformance with government wide accounting concepts and standards; (2) cash and credit management, debt management, payment management including disbursement activities and functions, (3) the design and development of Department-wide and component financial systems; (4) the preparation of the HHS Financial Management Status Report and Five Year Plan and the HHS Annual Report including financial statement and discussion and analysis and performance measures; (5) the development of outcome-based performance measures and performance plans through facilitation and training forums and best practices; (6) in coordination with other ASBTF components, participates in the clearance/approval process for program information systems that provide financial and/or program performance data which are used in financial statements; (7) approves the job descriptions and skill requirements for OPDIV CFOs, on the selection of OPDIV CFOs, and provides advice to the ASBTF/CFO who participates with the OPDIV Head in the annual performance plan/evaluation of the OPDIV CFO; and on the qualifications, recruitment, training and retention of all financial management personnel. In addition, improve financial performance by implementing a unified financial management system across HHS and ensure the preparation of financial statements that accurately represent HHS' financial condition.

2. Office of Financial Policy (AMS1): The Office of Financial Policy comprises the Division of Financial Management Policy (DFMP). (1) Division of Financial Management Policy (AMS11). The Division (a) Develops Department-wide policies, procedures, and standards for financial management areas including cash management, credit management, debt management, payment and disbursement activities and functions, and promulgates these and related government-wide financial management requirements through the Departmental Staff Manual system;

(b) Establishes a financial management planning process for the development of strategic and tactical plans and prepares the Department's Annual Financial Management Status Report and 5 Year Plan under the CFO Act;

(c) Provides support to the Operating Division Chief Financial Officers for financial planning and improvement initiatives;

(d) Serves as principal staff advisors on fiscal and accounting policy matters to the Office of Finance;

(e) Maintains liaison with the Office of Management and Budget (OMB), the Treasury Department, the General Accounting Office (GAO), the General Services Administration and other agencies on all financial management policy matters;

(f) Recommends policy and maintains a system for tracking and improving cash and credit management and debt collection performance throughout the Department;

(g) Establishes a financial management planning process for providing guidance and financial management indicators that enable the ASBTF/CFO to evaluate the financial management programs and activities of the Department;

(h) Prepares the annual HHS report on CFO activities as guided by the DASF/Deputy CFO.

3. Program Management and Systems Policy Office (AMS4): The Program Management and Systems Policy Office will be responsible for overseeing implementation of a unified financial management system consistent with the Secretary's directive. These responsibilities include:

a. Serve as a focal point for (1) overseeing the design, development, and implementation of the unified financial management system; and the development of life-cycle and budgetary plans; (2) monitoring the milestones and schedules as well as budget expenditures; and (3) the mediation and coordination of activities throughout all levels of HHS.

b. Ensure that all Federal accounting concepts and standards, as well as all HHS accounting policies and procedures are implemented throughout the unified financial management system.

c. Ensure that business requirements are met, the future direction of the initiative is consistent with HHS planning, and the status of the project is communicated to internal and external organizations.

d. Oversee a comprehensive program of change management that includes departmental communication, training plans and human resource issues.

e. Coordinate with workgroups to maximize the input from the cross-functional areas of HHS into the implementation process.

f. Oversee all risk management plans to ensure that risks are identified and mitigation strategies are developed.

(1) Division of Accounting and Fiscal Policy (AMS41). The Division: (a) Develops uniform business rules, data standards and accounting policy and procedures in support of new financial systems implementations. Ensures the development of ongoing accounting policy that further supports the consistent development and implementation of these systems;

(b) In collaboration with the Office of Financial Policy, provides advice and assistance to OPDIVs and STAFFDIVs on financial accounting and related fiscal matters and serves as principal advisor to the DASF on these matters as they relate to financial systems implementations;

(c) Maintains liaison with the Office of Management and Budget (OMB), the Treasury Department, the General Accounting Office (GAO), and other agencies on matters involving accounting and fiscal related matters as it relates to financial systems implementations;

(2) Division of Financial Systems Policy (AMS42). The Division: (a) Develops department-wide policies and standards for financial and mixed financial systems;

(b) Provides advice and serves as the focal point with the Federal control agencies on financial systems compliance matters;

(c) Provides for the establishment of Department-wide financial definitions and data structures;

(d) Provides for the administration of a data integrity and quality control program to ensure compliance with applicable Federal directives, Departmental financial systems policy and automated financial data exchange requirements;

(e) Oversees, monitors, evaluates, and recommends approval for the design, implementation, operation, and enhancement of Department-wide and component accounting and financial management systems;

(f) In collaboration with the Office of Financial Policy, serves as principal staff adviser to the Office of Finance on all financial systems related matters;

(g) Maintains liaison with the Office of Management and Budget, the Treasury Department, the General Accounting Office, and other agencies on matters involving financial systems.

4. Office of Audit Resolution and cost Policy (AMS5): The Office of Audit Resolution and Cost Policy provides leadership in the areas of resolving audits and managing cost policy. The Office has functional responsibility for cost principles and Department-wide cost policies and procedures affecting grants and contracts. In addition, the Office is responsible for resolving crosscutting audit findings and the following:

a. Serves as the Departmental liaison and maintains working relationships with OMB and other Federal agencies in the development of government-wide cost principles and Department-wide audit resolution policies; maintains similar relationships with associations of States, universities and other grantee and contractor organizations.

b. Reviews and resolves audit reports containing monetary and/or systemic findings of grantee and contractor organizations affecting the programs of more than one Operating or Staff Division of Federal agency. Conducts or arranges for additional reviews as needed.

c. Coordinates where necessary with other affected Federal agencies to establish a uniform Federal position on the actions needed to be taken and negotiates resolution on behalf of all Federal Departments and agencies.

d. When deemed necessary to protect the interests of the Department, makes recommendations to the Secretary, the ASBTF and other officials on safeguards or other actions against a grantee or contractor, where the organization is unwilling or unable to correct serious deficiencies in a timely manner.

e. Provides and arranges for technical assistance and/or training programs to grantees, contractors, and other Operating and Staff divisions on audit resolution, cost reimbursement and financial management of grants and contracts.

f. Upon request, reviews and approves accounting or other systems developed by grantees and contractors to meet Federal cost principle requirements.

F. Delete the following Chapters: Chapter AMG, “Office of Grants and Acquisition Management,” Chapter AMP, “Office of Human Resources Management,” and Chapter AMR, “Office of Facilities Services”; and under Chapter AML, “Office of Budget” delete the Office of Equal Employment Opportunity (AML-1), and transfer these components to the newly established Chapter, “Office of the Assistant Secretary for Administration and Management (AJ).”

II. Under Part A, establish a new Chapter AJ, to read as follows:

Office of Assistant Secretary for Administration and Management (AJ)

AJ.00 Mission

AJ.10 Organization

AJ.20 Functions

Section AJ.00 Mission: The Office of the Assistant Secretary for Administration and Management (OASAM) performs for the Secretary the administrative management functions (exclusive of financial and information resources management) of the Department. Manages the human resources, equal employment opportunity, acquisition, grants, and general management activities of the Department. Provides leadership and oversight direction to the activities of the Program Support Center. Provides resource management and equal opportunity services to the Office of the Secretary (OS) and is the head of the OS as an Operating Division.

Section AJ.10 Organization: The Office of the Assistant Secretary for Administration and Management is under the direction of the Assistant Secretary for Administration and Management, who reports to the Secretary and consists of the following components.

• Immediate Office of the Assistant Secretary for Administration and Management (AJ)

• Office of Human Resources (AJA)

• Office of Grants and Acquisition Management (AJB)

• Office of Management and Operations (AJC)

Section AJ.20 Functions:

A. Immediate Office of the Assistant Secretary for Administration and Management (AJ). Provides leadership, policy, guidance and supervision, as well as coordinating long and short range planning for the Office of the Assistant Secretary for Administration and Management.

B. Office of Human Resources (AJA):

Section AJA.00 Mission: The Office of Human Resources (OHR) provides leadership in the planning and development of personnel policies and human resource programs that support and enhance the Department's mission. Provides technical assistance to the Operating Divisions (OPDIVs) in building the capacity to evaluate the effectiveness of their human resource programs and policies. Serves as the Departmental liaison to central management agencies on topics relating to EEO and human resources matters.

Section AJA.10 Organization: The Office of Human Resources (OHR), headed by a Deputy Assistant Secretary for Human Resources who reports to the Assistant Secretary for Management and Administration, and consists of the following components:

• Immediate Office (AJA)

• Personnel Programs Group (AJA1)

• Equal Employment Opportunity Programs Group (AJA2)

Section AJA.20 Functions: 1. The Immediate Office of Human Resources (AJA): Provides leadership to the development and assessment of the Department's human resources programs and policies. In coordination with the Operating Divisions, designs human resource programs that support and enhance the HHS missions. Provides technical assistance to the OPDIVs in building the capacity to evaluate the effectiveness of their human resource programs and policies, including the development of performance standards. On behalf of the Department's Director of Equal Employment Opportunity, adjudicate complaints of discrimination. Serves as Departmental liaison to central management agencies exercising jurisdiction over human resources and EEO matters.

2. Personnel Programs Group (AJA1): Provides leadership to the planning and development of personnel policies and programs that support and enhance the Department's mission. In coordination with the OPDIVs, formulates HHS policies pertaining to employment, compensation, position classification, employee benefits, performance management, employee development, and employee and labor relations. Provides technical assistance to the OPDIVs in the proper application of Federal personnel laws, regulations, and policies. Provides strategic advice to the Deputy Assistant Secretary for Human Resources, the Assistant Secretary for Administration and Management, and the Secretary on those initiatives having major workforce implications. Analyzes workforce data and trends to support strategic workforce planning and restructuring efforts, at both the Departmental and OPDIV levels. Promotes and supports OPDIV capacity building efforts, including innovative approaches to personnel program management. Serves as the Department's focal point for liaison on personnel and labor relations issues with the Office of Personnel Management, the General Accounting Office, the Merit Systems Protection Board, and the Federal Labor Relations Authority.

3. Equal Employment Opportunity Programs Group (AJA2): Provides leadership to the planning and development of affirmative employment policies and programs that recognize and value the diversity of the Department workforce and promote a work place free of discrimination. Provides technical assistance and enabling tools to the OPDIVs in the design of innovative, effective affirmative employment programs. Keeps top HHS officials appraised of workforce demographics and recommends positive interventions as needed. Prepares, for the Director of Equal Employment Opportunity, final Departmental decisions on the merits of complaints of discrimination, and prepares proposed dispositions of complaints presenting conflicts of interest for OPDIV and STAFFDIV officials. Serves as the Department's focal point for liaison with the Office of Personnel Management, the Equal Employment Opportunity Commission, and the General Accounting Office on issues pertaining to affirmative employment and discrimination complaints.

C. Office of Grants and Acquisition Management (AJB):

Section AJB.00 Mission: The Office of Grants and Acquisition Management (OGAM) provides functional management direction in the areas of grants management, acquisition and logistics. Provides Department-wide leadership in these areas through policy development, oversight and training. Awards and administers contracts in support of the program needs of the Office of the Secretary. Represents the Department in dealings with OMB, GSA and other Federal agencies and Congress in the areas of mandatory and discretionary grants, procurement and logistics. Fosters creativity and innovation in the administration of these functions throughout the Department.

Section AJB.10 Organization: The Office of Grants and Acquisition Management (OGAM), headed by a Deputy Assistant Secretary for Grants and Acquisition Management who reports to the Assistant Secretary for Administration and Management, consists of the following components:

• Immediate Office (AJB)

• Logistics Policy Staff (AJB1)

• Office of Acquisition Management (AJB2)

• Office of Grants Management (AJB3)

• Office of Small and Disadvantaged Business Utilization (AJB4)

Section AJB.20 Functions: 1. Office of the Deputy Assistant Secretary for Grants and Acquisition Management (AJB): The Office of the Deputy Assistant Secretary for Grants and Acquisition Management provides leadership, policy, guidance and supervision, as well as coordinating long and short-range planning to constituent organizations.

2. Logistics Policy Staff (AJB1): Serves as the Department's focal point and liaison with the Operating and Staff Divisions for policy development, technical assistance, oversight and training in the area of logistics. The Staff is responsible for the following:

a. Formulates Department-wide logistics policies governing the management of personal property throughout the Department.

b. Provides advice and technical assistance on logistics activities and policy matters to the Department's Operating Divisions.

c. Monitors the adoption of logistics policies by the Department's Operating Divisions to ensure consistent policy interpretation and application.

d. Oversees the implementation of logistics functions throughout the Department.

e. Develops, participates in and evaluates logistics training programs for Department staff.

f. Researches, analyzes and tests innovative ideas, techniques and policies in the area of-logistics.

g. Serves as the Department's liaison in the area of logistics and maintains working relationships with OMB, GSA and other Federal agencies to coordinate and assist in the development of policy.

3. Office of Acquisition Management (AJB2): The Office of Acquisition Management provides leadership in the area of acquisition through policy development, oversight and training. The Office awards and administers contracts in support of the program needs of the office of the Secretary. The office is responsible for the following:

a. Formulates Department-wide acquisition policies governing procurement activities. Publishes these in regulations and manuals. Recommends and participates in development of government-wide acquisition policy.

b. Provides advice and technical assistance on procurement activities and policy matters to the Department's Operating and Staff Divisions.

c. Develops, participates in and evaluates the procurement training and certification program for Department's procurement staff; develops and participates in training activities for the Department's program staff who act as project officers on the Department's contracts.

d. Monitors the adoption of acquisition policies by the Department's Operating and Staff Divisions to ensure consistent policy interpretation and application.

e. Conducts Performance Measurement of the Department's procurement system to ensure compliance with procurement laws and policies and efficient acquisition of the Department's program needs.

f. Makes studies of problems requiring creation of new policies or revision of current policies, including the application of Departmental management controls and reports related to the Department's procurement activities; resolves issues arising from implementation of those policies; maintains similar relationships and associations with public and private contractor organizations.

g. Researches, analyzes and tests innovative ideas, techniques and policies in the area of acquisitions. Establishes and directs ad hoc teams to work on special projects to develop creative approaches to problems in the area of acquisition.

h. Serves as the Department's liaison in the area of acquisitions and maintains working relationships with OMB, GSA, GAO, and other Federal agencies to coordinate and assist in the development of policy and to participate in government-wide tests of procurement innovations.

i. Conducts special projects to develop improved mechanisms for Department-wide management of procurement.

j. Plans, directs, and carries out the centralized contracting program for the Office of the Secretary and the Administration on Aging. In the case of certain consolidated and centralized commodities and services (including information technology) also provides contract support for the Administration on Children and Families as well as other components of the Department.

k. Administers and manages performance of the contracts of the Office of the Secretary to ensure that it receives the timely and quality performance and the products for which it has contracted.

l. Is responsible for award and administration of contracts. Is authorized to enter into contracts at the micro-purchase, simplified acquisition, and major purchase (purchases in excess of $100,000.00) levels.

m. Tests innovative ideas and techniques to develop improved procurement methodologies.

4. Office of Grants Management (AJB3). The Office of Grants management provides leadership in the area of mandatory and discretionary grants through policy development, oversight and training. The Office has functional responsibility for Department-wide grants policies and grant regulations. In addition, the Office is responsible for oversight of the HHS grants management operations and the following:

a. Manages oversight of the award and administration of mandatory and discretionary grants and other forms of Federal financial assistance throughout the Department.

b. Formulates Department-wide grant policies governing the award and administration of grant activities. Publishes these in regulations and other directives.

c. Monitors the adoption of grant policies and procedures by the Department's Operating and Staff Divisions to ensure consistent policy interpretation and applications.

d. Provides advice and technical assistance to the Department's Operating and Staff Divisions and to the general public on matters relating to the administration of grants and other forms of Federal financial assistance.

e. Develops, participates in and evaluates grants management training programs for Department staff.

f. Serves as the Department's liaison in grants and maintains working relationships with OMB and other Federal agencies to coordinate and assist in the development of government-wide grant policies.

g. Conducts special studies of grants management issues to identify and implements improvements in the way the Department awards and administers grants and other forms of Federal financial assistance; and designs and assists in execution of demonstrations, experimentation and tests of innovative approaches to grants management.

h. Develops, analyzes and tests innovative ideas, techniques and policies in grants management. Fosters creativity in the administration of grants.

i. Establishes and manages improved grants management information and monitoring systems.

j. Establishes and manages training and certification programs for grants management professionals throughout the Department.

5. Offices of Small and Disadvantaged Business Utilization (AJB4): a. Has responsibility within the Department for policy, plans, and oversight of execution of the functions under section 8 and 15 of the Small Business Act as amended and Executive Orders 12073 and 12138, relating to preference programs for small business, disadvantaged businesses, labor surplus area concerns, and women-owned businesses. Under provision of Public Law 95-507, the Director reports directly to the Deputy Secretary. Pursuant to Deputy Secretarial direction, the day-to-day operational review will be provided by the Deputy Assistant Secretary for Grants and Acquisition Management to ensure effective departmental coordination and execution of these programs.

b. Acts as the advocate for the Secretary and Deputy Secretary within the Department for matters relating to sections 8 and 15 of Small Business Act and Executive Orders 12073 and 12138 and represents the Department in dealing with other Federal agencies on those matters.

c. Acts as focal point and advocate for the small business, disadvantaged business, labor surplus area and women-owned business firms in their dealings with the Department.

d. Formulates, recommends and monitors implementation of policies for the Department's small business, Small Business Innovation Research, disadvantaged business, labor surplus area, and women-owned business programs.

e. Coordinates and prepares the Department's goals for assigned programs, recommends Secretarial approval of such goals and subsequent to Secretarial approval, negotiates, establishes and reports on goals for the assigned programs with the cognizant Federal agencies.

f. Encourages the awarding of contracts and subcontracts to small business, disadvantaged business, labor surplus area, and women-owned business firms by providing information and assistance to all of the Department's organizational units.

g. Prepares documentation and reports to the Executive Office of the President, the Congress, Office of Management and Budget, the Small Business Administration, and other agencies, as required.

h. Ensures effective implementation by the Department of mandatory plans and/or contract clauses as required by Public Law 95-507 for small business and disadvantaged business firms and monitors the activities relating to such plans.

i. Provides input for coordinated Departmental positions on proposed legislation and Government regulations on matters affecting cognizant socioeconomic programs and maintain liaison with Congress through established Departmental channels.

j. Manages the Department's Small Business Innovation Research Program (SBIR) established under Public Law 97-219 and provides liaison between the Department and the Small Business Administration on SBIR matters.

k. Oversees and monitors the Departmental review and screening of planned procurement by programs and procurement offices to ensure that preference programs are given thorough consideration throughout the decision-making process.

D. Office of Management and Operations (AJC):

Section AJC.00 Mission: The Office of the Management and Operations (OMO) provides advice on matters having to do with the provision of administrative services, resource and financial management services, facilities services, and equal employment opportunity services for the Office of the Secretary. Provides leadership and direction for the Program Support Center and its Director. Provides Department-wide leadership for reorganizations and delegation of authority, travel policy, and other management programs.

Section AJC.10 Organization: The Office of Management and Operations is headed by a Deputy Assistant Secretary for Management and Operations (DASOMO) who reports to the Assistant Secretary for Administration and Management, provides day-to-day, supervisory review of the Program Support Center and its Director, consists of the following components:

• Office of Departmental Management (AJC1)

• Office of the Secretary Executive Office (AJC2)

—Office of the Secretary Equal Employment Opportunity (AJC21)

• Office of Facilities Services (AJC3)

Section AJC.20 Functions: 1. Office of Departmental Management (AJC1): (1) Serves as the principal source of advice on all aspects of Department-wide organizational analysis includes: planning for new organizational elements; evaluating current organizational structures for effectiveness; and conducting the review process for reorganization proposals. (2) Manages the reorganization process for the Office of the Secretary (OS) requiring the Secretary's signature and the Assistant Secretary for Administration and Management. (3) Administers the Department's system for review, approval and documentation of delegations of authority. Develops Department-wide policies and provides technical assistance on the use and application of delegations of authority. Advises senior officials within the Department on delegations of authority, coordinates review of proposed delegations requiring the Secretary's or other senior officials approval. Analyzes and makes recommendations related to legislative proposals with potential impact upon the Department's organizational structure or managerial procedures; (4) Manages the Departmental Standards Administrative Code (SAC) system, providing oversight, advice, and assistance to ensure codes are in accord with the current approved organization, (5) Develops Departmental policies pertaining to travel and provides oversight to the travel function in the Operating Divisions.

2. Office of the Secretary Executive Office (AJC2): The Office of the Secretary Executive Office (OSEO) will: (1) Provides budget and other financial services to Office of the Secretary Staff Divisions; (2) oversees all aspects of budget formulation and execution for the Office of the Assistant Secretary for Administration and Management; (3) maintains funds controls and coordination of billing and accounts related to the Secretary's dining room and the Immediate Office of the Secretary; (4) plans and directs the provision of centralized purchasing and contracting services for administrative supplies, technical, and research requirements for the OS; (5) provides staff assistance and guidance to OS staff on purchasing and contracting related to purchase order, credit card (MACC), etc.; (6) administer contracts sponsored by the OS; (7) provide advisory services in the areas of classification, staffing, disability hiring, and reasonable accommodation assistance, as well as other human resources services to OS Staff Divisions; (8) provides advice and guidance to officials and employees on employee benefits and services, awards, and related matters; (9) designs and develop programs related to workforce recruitment; (10) determines OS training needs and develops annual training plans to service those needs; (11) coordinates with the Program Support Center on requests for personnel actions, departure closeout processing, and payroll liaison;, as well as other human resources special projects; and (12) as required, conduct special human resources projects.

a. Office of the Secretary Equal Employment Opportunity (AJC21): The OS Officer of Equal Employment Opportunity assists the DAS/OMO in carrying out the delegated authority to establish and maintain equal employment opportunity programs within the Office of the Secretary. The Office is responsible for ensuring that all OS employment policies and actions are based on merit, without regard to race, color, religion, national origin, sex, age, or physical/mental disability. Major functions include: Pre-complaint counseling; formal complaint processing; affirmative employment planning and implementation; technical guidance and policy development. The functions of the office also include program efforts which focus on the Federal Women's Program, the Hispanic Employment Program, and the Program for People with Disabilities.

3. Office of Facilities Services (AJC3):

Section AJC3.00 Mission: The Office of Facilities Services (OFS) provides leadership and direction for real property management operations and provides Department-wide policy support for real property, space management, occupational safety and health, environmental and historic preservation responsibilities. Provides facilities management services to all HHS components in the Southwest Washington, DC complex. Advises senior Departmental officials on management issues related to the effective and efficient operations of the applicable programs and components. Acts as the Department's focal point with other Federal agencies and HHS Operating Divisions (OPDIVs) on policy and regulatory issues involving real property, space management, occupational safety and health, environmental and historic preservation activities for the Office of the Secretary (OS). Directs, plans, obtains, and coordinates building management, space management and design, systems furniture procurement and installation, safety and health and support services in the Southwest Washington, DC complex.

AJC3.10 Organization: The Office of Facilities Services is headed by a Director who reports to the Director, Office of Management and Operations, and consists of the following entitites:

Immediate Office (AJC3)

Division of Policy Coordination (AJC3A)

Division of Buildings Management (AJC3B)

Division of Security and Special Services (AJC3C)

AJC3.20 Functions: The Office of Facilities Services is responsible for the following functions:

1. The Office of the Director (AJC3) provides leadership, policy guidance and supervision as well as coordinating long and short range planning to constituent organizations.

2. Division of Policy Coordination (AJC3A): a. Establishes, maintains and promulgates HHS and OS policy for the HHS real property program. Establishes guidelines and procedures to monitor effectively the real property owned or leased by HHS.

b. Establishes guidelines to monitor the utilization of all space assigned to the Department by GSA.

c. Develops guidance to the OPDIVs on technical and facilities aspects of the HHS annual RENT budget. Provides oversight of OPDIV performance for this function and provides technical assistance on a Department-wide basis as required. Coordinates preparation among OPDIVs on facilities and space aspects, and collaborates with the office of Budget on final Department-wide RENT budgets, consistent with OMB and GSA guidance.

d. Establishes, maintains and promulgates HHS and OS policy for the occupational safety and health, and environmental programs. Provides oversight of OPDIV performance of these functions and provides technical assistance on a Department-wide basis as required.

e. Establishes, maintains and promulgates HHS and OS policy for the physical security program and provides technical assistance on a Department-wide basis as required.

f. Establishes, maintains, and promulgates HHS and OS policy for the historic preservation program. Provides oversight or OPDIV performance for this function and provides technical assistance on a Department-wide basis as required.

g. Establishes, maintains, and promulgates HHS and OS policy for the Health and Wellness, and Day Care Centers. Provides technical assistance on a Department-wide basis as required. Provides oversight of the HHS Health and Wellness Center at Headquarters.

h. Interprets Department of Energy policy on energy management issues and oversees implementation of energy related legislation within HHS.

i. Establishes information and reporting standards for all above listed programs. Collects, assembles, and analyzes required information for mandated reports to Congress, OMB, GSA and other Federal agencies.

3. Division of Buildings Management (AJC3B): a. Under delegation from GSA, is responsible for the physical plan operations and maintenance of the Hubert H. Humphrey Building including procurement and administration of related contracts.

b. Coordinates with GSA on building operation and maintenance matters for HHS-occupied space in GSA controlled facilities in the Southwest Washington, DC complex.

c. Is responsible for the acquisition, disposition, allocation and monitoring of space for the OS in Washington, DC and for the OPDIVs in the Southwest Washington, DC complex.

d. Enforces compliance with Federal space utilization principles in the Southwest Washington, DC complex by the preparation of high quality space management plans and drawings, and the arrangement of quality and timely renovation work. Provides engineering and architectural services as well as oversight in support of Southwest Washington, DC complex facilities both through in-house staff and manages major renovation and system furniture installation projects, moves and space consolidations. Oversees the restoration and renovation of joint use areas in the HHH Building. Procures systems furniture including related design, installation and maintenance services for the Southwest Washington, DC complex.

4. Division of Security and Special Services (AJC3C): a. Oversees the OS and Southwest complex occupational safety and health programs, including procurement and administration of related contracts. b. Provides physical security for employees and facility protection in the HHH Building through the procurement and administration of guard services and equipment. Serves as liaison with GSA for physical security issues affecting HHS employers in GSA controlled space in the Southwest Washington, DC complex. c. Provides a variety of facility support services to the OS and OPDIVs in the Southwest Washington, DC complex, including the management of conference and parking facilities, the issuance and control of employee identification badges, and special events support; and d. serves as the focal point within OFS for the receipt and referral of customer requests for services and complaints related to building operations and facilities management matters and is responsible for monitoring the timely and efficient corrective action.

III. Continuation of Policy: Except as inconsistent with this reorganization, all statements of policy and interpretations with respect to the Office of the Secretary, the HHS Management and Budget Office and the Program Support Center heretofore issued and in effect prior to the date of this reorganization are continued to full force and effect.

IV. Delegations of Authority: All delegations and redelegations of authority made to officials and employees of affected organizational components will continue in them or their successors pending further redelegation, provided they are consistent with this reorganization.

V. Funds, Personnel and Equipment: Transfer of organizations and functions affected by this reorganization shall be accompanied in each instance by direct and support funds, positions, personnel, records, equipment, supplies and other resources.

Dated: October 11, 2001.
Tommy G. Thompson,
Secretary.

[FR Doc. 01-27006 Filed 11-1-01; 8:45 am]

BILLING CODE 4150-04-M